DEPARTMENT OF TRANSPORTATION

Coast Guard

33 CFR Part 165

[CGD09-02-063]

Safety Zones; Annual Fireworks Events in the Captain of the Port Detroit Zone

AGENCY: Coast Guard, DOT.

ACTION: Notice of implementation of regulation.

SUMMARY: The Coast Guard is implementing safety zones for annual fireworks displays in the Captain of the Port Detroit Zone during August 2002. This action is necessary to provide for the safety of life and property on navigable waters during these events. These zones will restrict vessel traffic from a portion of the Captain of the Port Detroit Zone.

DATES: The safety zone for the Maritime Day Fireworks, occurring in Marine City, MI, will be enforced from 9:30 p.m. until 11 p.m. on August 10, 2002. The safety zone for the Venetian Festival Boat Parade & Fireworks, occurring in St. Clair Shores, MI, will be enforced from 8:30 p.m. until 10:30 p.m. on August 10, 2002.

FOR FURTHER INFORMATION CONTACT: Lieutenant Junior Grade Brandon Sullivan, U.S. Coast Guard Marine Safety Office Detroit, at (313) 568-9580.

SUPPLEMENTARY INFORMATION: The Coast Guard is implementing the permanent safety zones in 33 CFR 165.907(a)(22) and (23), for fireworks displays in the Captain of the Port Detroit Zone during August 2002.

The following safety zones will be enforced during fireworks displays occurring in the month of August 2002:

Maritime Day Fireworks, Marine City, MI. This safety zone will be enforced on August 10, 2002 from 9:30 p.m. until 11 p.m.

Venetian Festival Boat Parade & Fireworks, St. Clair Shores, MI. This safety zone will be enforced on August 10, 2002, from 8:30 p.m. until 10:30 p.m.

In order to ensure the safety of spectators and transiting vessels, these safety zones will be enforced for the duration of the events. In cases where shipping is affected, commercial vessels may request permission from the Captain of the Port Detroit to transit the safety zone. Approval will be made on a case-by case basis. Requests must be made in advance and approved by the Captain of Port Detroit before transits will be authorized. The Captain of the Port Detroit may be contacted via U.S. Coast Guard Group Detroit on Channel 16, VHF-FM.

Dated: July 19, 2002.
P. G. Gerrity,
Commander, Coast Guard, Captain of the Port Detroit.

[FR Doc. 02-19138 Filed 7-26-02; 8:45 am]

BILLING CODE 4910-15-P